DEPARTMENT OF COMMERCE

National Oceanic and Atmospheric Administration

RIN 0648-XF637

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Skate Advisory Panel to consider actions affecting New England fisheries in the exclusive economic zone (EEZ). Recommendations from this group will be brought to the full Council for formal consideration and action, if appropriate.

DATES: This meeting will be held on Tuesday, September 12, 2017 at 9:30 a.m.

ADDRESSES: The meeting will be held at the Radisson Airport Hotel, 2081 Post Road, Warwick, RI 02886; telephone: (401) 739-3000.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The committee will discuss Plan Development Team analysis and draft Framework Adjustment 5 (FW 5) alternatives including updated status determinations for the Northeast Skate Complex, recommendations for the Skate Allowable Biological Catch (ABC), associated possession limits, and allowing the landing of barndoor skate as well as select preferred alternatives for FW 5. They will also discuss PDT analyses of limited access in the Northeast Skate FMP and recommendations for the Committee to consider for 2018 priorities for the Northeast Skate Complex FMP. The Council is scheduled to have an initial discussion of potential 2018 priorities at the September Council meeting. The committee discuss if there are any regulations in the Northeast Skate Complex FMP that could be eliminated, improved, or streamlined. Several recent Executive Orders have been issued about streamlining current regulations, and NOAA is seeking public input on the efficiency and effectiveness of current regulations and whether they can be improved. Other business will be discussed as necessary.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: August 22, 2017.
Tracey L. Thompson,
Acting Deputy Director, Office of Sustainable Fisheries, National Marine Fisheries Service.

[FR Doc. 2017-18049 Filed 8-24-17; 8:45 am]

BILLING CODE 3510-22-P